DEPARTMENT OF HEALTH AND HUMAN SERVICES

National Institutes of Health

National Institute on Drug Abuse; Cancellation of Meeting

Notice is hereby given of the cancellation of the National Institute on Drug Abuse Special Emphasis Panel, March 10, 2004, 5 p.m. to March 10, 2004, 7 p.m. Residence Inn Bethesda, 7335 Wisconsin Avenue, Bethesda, MD, 20814 which was published in the Federal Register on February 19, 2004, Vol. 69, Num. 33.

The meeting is cancelled because the grant application was withdrawn.

Dated: February 26, 2004.
LaVerne Y. Stringfield,
Director, Office of Federal Advisory Committee Policy.

[FR Doc. 04-4797 Filed 3-3-04; 8:45 am]

BILLING CODE 4140-01-M